COMMITTEE FOR PURCHASE FROM PEOPLE WHO ARE BLIND OR SEVERELY DISABLED

Procurement List; Additions and Deletions

AGENCY: Committee for Purchase From People Who Are Blind or Severely Disabled.

ACTION: Notice; Supplementary.

DATES: May 13, 2014.

ADDRESSES: Committee for Purchase From People Who Are Blind or Severely Disabled, 1401 S. Clark Street, Suite 10800, Arlington, Virginia 22202-1419.

SUMMARY: The Committee for Purchase From People Who Are Blind or Severely Disabled (Committee) is providing supplementary information to its Notice in the Federal Register of April 21, 2014.

FOR FURTHER INFORMATION CONTACT: Barry S. Lineback, Director, Business Operations, Telephone: (703) 603-7740, FAX 703-603-0655 or email CMTEFedReg@abilityone.gov.

SUPPLEMENTARY INFORMATION: The Committee's Notice in the Federal Register of Monday, April 21, 2014 (79 FR 22103-22104), included the addition to the Procurement List of “Base Operations Support Service, National Geospatial-Intelligence Agency, NGA Campus West, 3200 S 2nd Street, St. Louis, MO”, with an effective date of May 20, 2014. Through this Notice, the Committee is temporarily suspending the May 20, 2014 effective date until November 20, 2014.

Barry S. Lineback,
Director, Business Operations.

[FR Doc. 2014-11368 Filed 5-15-14; 8:45 am]

BILLING CODE 6353-01-P